DEPARTMENT OF THE INTERIOR

Fish and Wildlife Service

Endangered and Threatened Species Permit Application

AGENCY: Fish and Wildlife Service, Interior.

ACTION: Notice of receipt of application.

The following applicants have applied for scientific research permits to conduct certain activities with endangered species pursuant to sections 10(a)(1)(A) and 10(c) of the Endangered Species Act of 1973, as amended (16 U.S.C. 1531, et seq.).

Permit Number TE042395

Applicant: George Thomas Watters, Columbus, Ohio

The applicant requests a permit to take (collect, transport, and relocate) the following mussels in Indiana: Fanshell (Cyprogenia stegaria), Northern riffleshell (Epioblasma rangiana), and Clubshell (Pleurobema clava).

Permit Number TE042945

Applicant: Melody Myers-Kinzie, Lafayette, Indiana

The applicant requests a permit to take (capture, handle, and release) northern riffleshell (Epioblasma torulosa rangiana), clubshell (Pleurobema clava), and rough pigtoe (Pleurobema plenum) in Indiana.

Permit Number TE042946

Applicant: Robert J. Sheehan, Southern Illinois University, Carbondale, Illinois

The applicant requests a permit to take (capture, tag, and release) pallid sturgeon (Scaphirhynchus albus) in the Mississippi River from St. Louis, Missouri to the mouth of the Ohio River. Juvenile pallid sturgeon sampled in trawls may be subject to lethal take for identification. The scientific research is aimed at enhancement of survival of the species in the wild.

Permit Number TE043011

Applicant: Ody Brooks Enterprises, Cedar Springs, Michigan

The applicant requests a permit to take (survey, capture, and collect) Karner blue butterfly (Lycaeides melissa samuelis) in Kent County, Michigan. The scientific research is aimed at enhancement of survival of the species in the wild.

Written data or comments should be submitted to the Regional Director, U.S. Fish and Wildlife Service, Ecological Services Operations, 1 Federal Drive, Fort Snelling, Minnesota 55111-4056, and must be received within 30 days of the date of this publication.

Documents and other information submitted with this application are available for review by any party who requests a copy from the following office within 30 days of the date of publication of this notice: U.S. Fish and Wildlife Service, Ecological Services Operations, 1 Federal Drive, Fort Snelling, Minnesota 55111-4056, peter_fasbender@fws.gov, telephone (612) 713-5343, or Fax (612) 713-5292.

Dated: May 17, 2001.
T.J. Miller,
Acting Assistant Regional Director, Ecological Services, Region 3, Fort Snelling, Minnesota.

[FR Doc. 01-13129 Filed 5-23-01; 8:45 am]

BILLING CODE 4310-55-P